DEPARTMENT OF HOMELAND SECURITY

Coast Guard

[Docket No. USCG-2008-0499]

National Maritime Security Advisory Committee; Meeting

AGENCY: Coast Guard, DHS.

ACTION: Notice of meeting.

SUMMARY: The National Maritime Security Advisory Committee will have a web based meeting to discuss various issues relating to Maritime Security. This meeting will be open to the public.

DATES: The Committee will meet on Tuesday, July 22, 2008 from 2 p.m. until 5 p.m. EST. This meeting may close early if all business is finished. Written material and requests to make oral presentations should reach the Coast Guard on or before Monday, July 11, 2008. Requests to have a copy of your material distributed to each member of the committee or subcommittee should reach the Coast Guard on or before Monday, July 11, 2008.

ADDRESSES: The Committee will meet via a web enabled interactive online format. Send written material and requests to make oral presentations to Ryan Owens, Assistant to Designated Federal Officer of the National Maritime Security Advisory Committee, 2100 2nd Street, SW., Room 5302, Washington, DC 20593. You may also e-mail material to ryan.f.owens@uscg.mil. This notice is available in our online docket, Docket No. USCG-2008-0499, at http://dms.dot.gov.

FOR FURTHER INFORMATION CONTACT: Ryan F. Owens, Assistant to DFO of the National Maritime Security Advisory Committee at (202) 372-1108 or ryan.f.owens@uscg.mil.

SUPPLEMENTARY INFORMATION: Notice of this meeting is given under the Federal Advisory Committee Act, 5 U.S.C. App. (Pub. L. 92-463).

Agenda of Meeting

The agenda for the July 22, 2008, Committee meeting is as follows:

(1) Report and Discussion of the Transportation Worker Identification Credential (TWIC) Working Group.

(2) Update and Discussion on the Maritime Government Coordination Council and the Maritime Sector Coordination Council.

Procedural

This meeting is open to the public and will be conducted via an online meeting format. If you would like to participate in this meeting, please log onto https://fedgov.webex.com/fedgov/onstage/g.php?t=a&d=695573884 and follow the online instructions to register for this meeting. Please note that the meeting may close early if all business is finished. At the Chair's discretion, members of the public may make oral presentations during the meeting. If you would like to make an oral presentation at a meeting, please notify the Assistant to DFO no later than Monday, July 11, 2008. Written material for distribution at a meeting should reach the Coast Guard no later than Monday, July 11, 2008. If you would like a copy of your material distributed to each member of the committee or subcommittee in advance of a meeting, please submit 25 copies to the Assistant to DFO no later than Monday, July 11, 2008.

Information on Services for Individuals With Disabilities

For information on facilities or services for individuals with disabilities or to request special assistance at the meeting, contact the DFO as soon as possible.

Dated: June 18, 2008.
M.P. O'Malley,
Captain, U.S. Coast Guard, Chief, Office of Port and Facility Activities, Designated Federal Official, NMSAC.

[FR Doc. E8-14368 Filed 6-24-08; 8:45 am]

BILLING CODE 4910-15-P